ENVIRONMENTAL PROTECTION AGENCY

[OA-2004-0005; FRL-7879-7]

Agency Information Collection Activities; Submission to OMB for Review and Approval; Comment Request; Pretest of the Pollution Abatement Costs and Expenditures (PACE) Survey; EPA ICR Number 2158.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before April 1, 2005.

ADDRESSES: Submit your comments, referencing docket ID number OA-2004-0005, to (1) EPA online using EDOCKET (our preferred method), by e-mail to oei.docket@epa.gov, or by mail to: EPA Docket Center, Environmental Protection Agency, Office of Environmental Information Docket, Mail Code 2822T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Dr. Kelly Maguire, U.S. Environmental Protection Agency, Office of Policy, Economics and Innovation, National Center for Environmental Economics, Mail Code 1809T, 1200 Pennsylvania Ave., NW., Washington, DC 20460; telephone number: (202) 566-2273; fax number: (202) 566-2339; e-mail address: maguire.kelly@epa.gov.

SUPPLEMENTARY INFORMATION: EPA has submitted the following ICR to OMB for review and approval according to the procedures prescribed in 5 CFR 1320.12. On August 19, 2004 (69 FR 51461), EPA sought comments on this ICR pursuant to 5 CFR 1320.8(d). EPA has addressed the comments received.

EPA has established a public docket for this ICR under Docket ID No. OA-2004-0005, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA?s policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Pretest of the Pollution Abatement Costs and Expenditures (PACE) Survey.

Abstract: The Pollution Abatement Costs and Expenditures (PACE) Survey was conducted by the U.S. Bureau of Census annually between 1973 and 1994 (excluding 1987) and again in 1999. This pretest is to evaluate a revised PACE survey instrument.

The data from the PACE survey are mainly used by the U.S. Environmental Protection Agency (EPA) to better satisfy legislative and executive requirements to track the costs of regulatory programs and to provide aggregate national statistics on costs and expenditures for pollution abatement activities. Other users of these aggregate data include trade associations, manufacturers, marketing and research companies, universities, financial and environmental institutions, other Federal agencies, State and local governments, and environmental reporters.

This information request is to conduct a pretest of the redesigned survey instrument being considered for use in reinstating the annual PACE survey conducted by the Bureau of the Census. The survey collects information on facility-specific costs and expenditures for pollution abatement activities among manufacturing, mining, and electric utility facilities. Pollution abatement includes treatment, recycling, waste disposal, pollution prevention, and other pollution management activities, such as monitoring and testing and recordkeeping and reporting.

Participation in the pretest of the PACE survey will be voluntary. EPA, through its contractors, ICF Consulting, and RTI, International, will recruit 24 facilities from the pulp and paper, iron and steel, electric utility, petroleum, and other industries to participate in the pretest. Facilities will complete the survey and then participate in a follow-up discussion of the results with engineers from RTI, International. The engineers will seek to better understand the results provided on the survey and walk through the facility to identify pollution abatement techniques. The engineers will develop independent estimates of costs for each facility which will serve to better assist the facility in understanding the sources of various cost elements and enhance the survey instrument.

The survey responses from the pretest will only be used to assess the redesigned survey instrument. All responses will be kept confidential at RTI, International and will be destroyed after 5 years.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 16 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: manufacturing facilities from the pulp and paper, petroleum, electric utility, iron and steel, and other select industries.

Estimated Number of Respondents: 24.

Frequency of Response: one-time.

Estimated Total Annual Hour Burden: 378.

Estimated Total Annual Cost: $11,000, which includes $0 annual capital/startup or O&M costs and $11,000 annual labor costs.

Dated: February 20, 2005.
Oscar Morales,
Director, Collection Strategies Division.

[FR Doc. 05-3998 Filed 3-1-05; 8:45 am]

BILLING CODE 6560-50-P